LEGAL SERVICES CORPORATION

45 CFR Part 1621

Client Grievance Procedure

AGENCY: Legal Services Corporation.

ACTION: Notice of proposed rulemaking—reopening of comment period.

SUMMARY: On August 21, 2006, the Legal Services Corporation (LSC) issued a Notice of Proposed Rulemaking (NPRM) proposing to amend LSC's regulation on client grievance procedures. The comment period closed on September 20, 2006. LSC is reopening the comment period to allow additional time for interested parties to comment on the proposed changes.

DATES: Comments on the NPRM are due on December 22, 2006.

ADDRESSES: Written comments may be submitted by mail, fax or e-mail to Mattie Cohan, Senior Assistant General Counsel, Office of Legal Affairs, Legal Services Corporation, 3333 K Street, NW., Washington, DC 20007; 202-295-1624 (ph); 202-337-6519 (fax); mcohan@lsc.gov.

FOR FURTHER INFORMATION CONTACT: Mattie Cohan, Senior Assistant General Counsel, 202-295-1624 (ph); mcohan@lsc.gov.

SUPPLEMENTARY INFORMATION:

Background

The Legal Services Corporation's (LSC) regulation on client grievance procedures, 45 CFR part 1621, adopted in 1977 and not amended since that time, requires that LSC grant recipients establish grievance procedures pursuant to which clients and applicants for service can pursue complaints with recipients related to the denial of legal assistance or dissatisfaction with the legal assistance provided. LSC initiated a rulemaking on October 29, 2005 to consider revisions to Part 1621 and published a Notice of Proposed Rulemaking proposing changes to the rule on August 21, 2006. 71 FR 48501.

The comment period on the NPRM closed on September 20, 2006. LSC received five timely comments on the proposed changes. The Operations and Regulations Committee of the LSC Board of Directors was scheduled to consider a Draft Final Rule prepared by Management at its meeting of October 27, 2006. Prior to that meeting, the Chairman of the Operations and Regulations Committee received a request from the National Legal Aid and Defender Association (NLADA) to file additional comments from NLADA's client representative committee. In response to that request, LSC determined that deferring action on the draft final rule to allow additional time for the client representative community (and any other interested parties) to submit comments was appropriate. Accordingly, LSC is reopening the comment period on the NPRM for a period of 45 days. Parties desiring to comment may find the NPRM on the LSC Web site at: http://www.lsc.gov/pdfs/1621FedRegNotice.pdf. Other pertinent docket materials in this rulemaking may be found at: http://www.lsc.gov/laws/open_rulemaking.php, under the heading “Revision of 45 CFR Part 1621.”

Victor M. Fortuno,
Vice President & General Counsel.

[FR Doc. E6-18708 Filed 11-6-06; 8:45 am]

BILLING CODE 7050-01-P